DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than July 27, 2015.

Interested persons are invited to submit written comments regarding the subject matter of the investigations to the Director, Office of Trade Adjustment Assistance, at the address shown below, not later than July 27, 2015.

The petitions filed in this case are available for inspection at the Office of the Director, Office of Trade Adjustment Assistance, Employment and Training Administration, U.S. Department of Labor, Room N-5428, 200 Constitution Avenue NW., Washington, DC 20210.

Signed at Washington, DC this 29th day of June 2015.
Hope D. Kinglock,
Certifying Officer, Office of Trade Adjustment Assistance.

Appendix

89 TAA Petitions Instituted Between 6/1/15 and 6/26/15
TA-W | Subject firm (petitioners) | Location | Date of institution | Date of petition
86046 | Aercap (State/One-Stop) | Los Angeles, CA | 06/01/15 | 05/28/15
86047 | Republic Steel (Union) | Gary, IN | 06/01/15 | 05/29/15
86048 | Spirit Aerosystem (Workers) | Tulsa, OK | 06/01/15 | 05/29/15
86049 | Green Diamond Company/California Redwood Company (State/One-Stop) | Eureka, CA | 06/01/15 | 05/29/15
86050 | Bank Of America (Workers) | Simi Valley, CA | 06/01/15 | 05/29/15
86051 | Archer Pressure Pumping, LLC (Workers) | Union City, OK | 06/01/15 | 06/01/15
86052 | Southwestern Wire Cloth (Workers) | Broken Arrow, OK | 06/01/15 | 05/28/15
86053 | Medco/Express Scripts (State/One-Stop) | Jersey City, NJ | 06/02/15 | 06/01/15
86054 | Sonoco (Union) | New Albany, IN | 06/02/15 | 05/29/15
86055 | Aztec Well Servicing Companies (Company) | Aztec, NM | 06/02/15 | 05/27/15
86056 | Kapstone Paper and Packaging Inc. (Union) | Longview, WA | 06/02/15 | 06/01/15
86057 | Fairmount Santrol (Brewer Facility) (State/One-Stop) | Perryville, MO | 06/03/15 | 06/02/15
86058 | Merkle Inc. (State/One-Stop) | Montvale, NJ | 06/03/15 | 06/02/15
86059 | OGCI—Petro Skills (State/One-Stop) | Tulsa, OK | 06/03/15 | 06/02/15
86060 | Worthington Industries (State/One-Stop) | Florence, SC | 06/04/15 | 06/03/15
86061 | ArcelorMittal Ferndale, Inc. (Company) | Ferndale, MI | 06/04/15 | 06/03/15
86062 | Chromalloy Southwest (Company) | Calexico, CA | 06/04/15 | 06/03/15
86063 | Heritage Home (Workers) | Saltillo, MS | 06/04/15 | 06/03/15
86064 | Texas Instruments Incorporated (Company) | Stafford, TX | 06/04/15 | 06/02/15
86065 | Cliffs Natural Resources (State/One-Stop) | Ishpeming, MI | 06/05/15 | 06/04/15
86066 | Contec LLC (Workers) | Brownsville, TX | 06/05/15 | 06/04/15
86067 | Guardian Life Insurance Company (Company) | Appleton, WA | 06/05/15 | 06/04/15
86068 | Rockwell Collins Inc. (Workers) | Calexico, CA | 06/05/15 | 06/04/15
86069 | Schlumberger (State/One-Stop) | Kellyville, OK | 06/05/15 | 06/04/15
86070 | Interplex Tech Group (Workers) | North Haven, CT | 06/08/15 | 06/03/15
86071 | INVISTA (Company) | Athens, GA | 06/08/15 | 06/05/15
86072 | Conoco-Phillips, IT Dept. (State/One-Stop) | Bartlesville, OK | 06/08/15 | 06/05/15
86073 | Norwich Aero Products (Esterline) (State/One-Stop) | Norwich, NY | 06/08/15 | 06/05/15
86074 | W.W. Grainger (State/One-Stop) | Lincolnshire, IL | 06/08/15 | 06/05/15
86075 | Epic Technologies, LLC (Company) | Johnson City, TN | 06/08/15 | 06/05/15
86076 | Omnicare Inc. (Workers) | Dublin, OH | 06/09/15 | 06/08/15
86077 | HARMAN (Company) | Northridge, CA | 06/09/15 | 06/08/15
86078 | Best Well Services, LLC. (State/One-Stop) | Guthrie, OK | 06/09/15 | 06/08/15
86079 | Airboss Defense Inc. (Company) | Milton, VT | 06/09/15 | 06/08/15
86080 | Sercel GRC (State/One-Stop) | Tulsa, OK | 06/10/15 | 06/09/15
86081 | Milco Industries, Inc. (Company) | Bloomsburg, PA | 06/10/15 | 06/09/15
86082 | AA Gear and Manufacturing (State/One-Stop) | Howell, MI | 06/10/15 | 06/09/15
86083 | Magnetation (State/One-Stop) | Grand Rapids, MN | 06/10/15 | 06/09/15
86084 | DexMedia (Workers) | Los Alamitos, CA | 06/10/15 | 06/09/15
86085 | Research in Motion (Blackberry) (State/One-Stop) | Milford, CT | 06/11/15 | 06/10/15
86086 | Mesabi Nugget/Steel Dynamics (State/One-Stop) | Chisholm/Hoyt Lakes, MN | 06/11/15 | 06/10/15
86087 | Horton Automatics (Company) | Corpus Christi, TX | 06/11/15 | 06/10/15
86088 | Breg, Inc. (State/One-Stop) | Grand Prairie, TX | 06/11/15 | 06/09/15
86089 | Huntington Alloys Corporation (Union) | Huntington, WV | 06/11/15 | 06/10/15
86090 | CoorsTek (State/One-Stop) | Tulsa, OK | 06/12/15 | 06/11/15
86091 | Frontier Airlines (State/One-Stop) | Denver, CO | 06/15/15 | 06/12/15
86092 | National Electronic Warranty/Asurion (State/One-Stop) | Sterling, VA | 06/15/15 | 06/01/15
86093 | EarthLink (State/One-Stop) | Rochester, NY | 06/16/15 | 06/15/15
86094 | Optical Disc Solutions (Workers) | Richmond, IN | 06/16/15 | 06/15/15
86095 | Essentra (Union) | Evansville, IN | 06/16/15 | 06/15/15
86096 | Dow Electronic Materials—Metal Organics incl. Kelly Services & US Security (Workers) | North Andover, MA | 06/16/15 | 05/29/15
86097 | Heritage Glass LLC (Workers) | Kingsport, TN | 06/17/15 | 06/16/15
86098 | Mattel, Inc. (State/One-Stop) | El Segundo, CA | 06/17/15 | 06/16/15
86099 | Mohawk Industries (Company) | Landrum, SC | 06/17/15 | 06/16/15
86100 | Novartis/GSK Consumer Health Care (Workers) | Lincoln, NE | 06/17/15 | 06/16/15
86101 | Paragon Store Fixtures (Company) | Big Lake, MN | 06/17/15 | 06/16/15
86102 | Vonage America (Workers) | Holmdel, NJ | 06/17/15 | 06/16/15
86103 | Wilbros (State/One-Stop) | Tulsa, OK | 06/17/15 | 06/16/15
86104 | Northwest Pipe Company (State/One-Stop) | Atchison, KS | 06/18/15 | 06/17/15
86105 | Safran Labinal Power Systems (Company) | Salisbury, MD | 06/18/15 | 06/17/15
86106 | Tucker Energy Services/McAlester OK (State/One-Stop) | Tulsa, OK | 06/18/15 | 06/17/15
86107 | Dex Media (State/One-Stop) | DFW Airport, TX | 06/19/15 | 06/17/15
86108 | SOL INC (Workers) | Palm City, FL | 06/19/15 | 06/17/15
86109 | Mammoth Webco (State/One-Stop) | Springfield, MO | 06/19/15 | 06/09/15
86110 | Allen Logging Co, Inc. (State/One-Stop) | Forks, WA | 06/19/15 | 06/16/15
86111 | Seattle-Snohomish Sawmill Co. Inc. (State/One-Stop) | Snohomish, WA | 06/19/15 | 06/16/15
86112 | Avantor Performance Materials (Workers) | Paris, KY | 06/22/15 | 06/22/15
86113 | Soo Tractor LLC (formerly Radius Steel) (State/One-Stop) | Sioux City, IA | 06/22/15 | 06/19/15
86114 | Regal Beloit America, Inc. (Company) | West Plains, MO | 06/22/15 | 06/19/15
86115 | GGS Information Services (Company) | Erie, PA | 06/22/15 | 06/19/15
86116 | Quad Graphics (State/One-Stop) | Portland, OR | 06/23/15 | 06/22/15
86117 | Conoco Phillips (State/One-Stop) | Farmington, NM | 06/23/15 | 06/22/15
86118 | Producers Assistants Corp (State/One-Stop) | Farmington, NM | 06/23/15 | 06/22/15
86119 | Frac Master LLC (Workers) | Farmington, NM | 06/23/15 | 06/22/15
86120 | Avery Dennison (Company) | Greensboro, NC | 06/23/15 | 06/22/15
86121 | Sandvik Coromant (Workers) | Pontiac, MI | 06/23/15 | 06/22/15
86122 | Hospira (Company) | Clayton, NC | 06/23/15 | 06/23/15
86123 | Bombardier Transportation (Workers) | Pittsburgh, PA | 06/23/15 | 06/09/15
86124 | E. H. Wachs/ITW (State/One-Stop) | Lincolnshire, IL | 06/24/15 | 06/23/15
86125 | Verizon Business (State/One-Stop) | Tulsa, OK | 06/24/15 | 06/23/15
86126 | Solid State Advanced Controls (Company) | Baldwinsville, NY | 06/25/15 | 06/18/15
86127 | Johnson Metall, Inc. (Workers) | Lorain, OH | 06/25/15 | 05/29/15
86128 | QBE First (Workers) | Moon Township, PA | 06/25/15 | 06/19/15
86129 | Frog, Switch, and MFG CO (Workers) | Carlisle, PA | 06/25/15 | 06/19/15
86130 | Vera Bradley Designs (Company) | New Haven, IN | 06/25/15 | 06/24/15
86131 | WPX Energy Services Company, LLC (State/One-Stop) | Tulsa, OH | 06/25/15 | 06/24/15
86132 | Getinge Sourcing, LLC (Company) | Rochester, NY | 06/26/15 | 06/25/15
86133 | Capital Group Companies Global, Inc. (Workers) | San Antonio, TX | 06/26/15 | 06/10/15
86134 | ESCI/Thorpe Inc. (State/One-Stop) | Broken Arrow, OK | 06/26/15 | 06/25/15

[FR Doc. 2015-17427 Filed 7-15-15; 8:45 am]

BILLING CODE 4510-FN-P